DEPARTMENT OF THE INTERIOR

Bureau of Reclamation

San Luis Drainage Feature Re-evaluation Draft Environmental Impact Statement, Alameda, Contra Costa, Fresno, Kern, Kings, Merced, San Joaquin, San Luis Obispo, and Stanislaus Counties, CA

AGENCY: Bureau of Reclamation, Interior.

ACTION: Extension of public review and comment period for the Draft Environmental Impact Statement (EIS).

SUMMARY: The Bureau of Reclamation is extending the public review and comment period for the Draft EIS to Thursday, September 1, 2005. The notice of availability of the Draft EIS and notice of public hearings was published in the Federal Register on June 2, 2005, (70 FR 32370). The public review period was originally scheduled to end on August 1, 2005.

DATES: Submit comments on the Draft EIS by close of business Thursday, September 1, 2005.

ADDRESSES: Send comments on the Draft EIS to Ms. Claire Jacquemin, Bureau of Reclamation, 2800 Cottage Way, MP-700, Sacramento, CA 95825.

FOR FURTHER INFORMATION CONTACT: Mr. Jerry Robbins, Project Manager, at 916-978-5061, TDD 916-978-5608. The Draft EIS is also available online at http://www.usbr.gov/mp/nepa/nepa_projdetails.cfm?Project_ID=61. To request a copy of the Draft EIS please contact Ms. Jacquemin at 916-978-5119.

SUPPLEMENTARY INFORMATION: Our practice is to make comments, including names and home addresses of respondents, available for public review. Individual respondents may request that we withhold their home address from public disclosure, which we will honor to the extent allowable by law. There may also be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: July 29, 2005.
Frank Michny,
Regional Environmental Officer, Mid-Pacific Region.

[FR Doc. 05-16821 Filed 8-23-05; 8:45 am]

BILLING CODE 4310-MN-P